DEPARTMENT OF ENERGY

Federal Energy Regulatory Commission

[Docket No. RP05-132-002]

Kinder Morgan Interstate Gas Transmission LLC; Notice of Filing

April 6, 2005.

On January 31, 2005, Midwest Energy, Inc. (Midwest) filed comments in which Midwest requests that the Commission direct Kinder Morgan Interstate Gas Transmission LLC (KMIGT) to: (1) Submit a filing removing Midwest as an offending shipper during two directional notice time periods; and (2) to reinstate the refunds that are owed to Midwest as a result of the corrective action. On February 1, 2005, Missouri Gas Energy (MGE) filed a motion to intervene. On February 7, 2005, KMIGT filed its response to Midwest's January 31 filing and MGE's motion to intervene. KMIGT filed revised Appendices A through C as included in its January 14, 2005 amended reconciliation filing in this proceeding. KMIGT states that it has eliminated the penalty amounts attributable to Midwest and included Midwest in the calculation of refunds.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on April 25, 2005.

Linda Mitry,
Deputy Secretary.

[FR Doc. E5-1689 Filed 4-11-05; 8:45 am]

BILLING CODE 6717-01-P